ENVIRONMENTAL PROTECTION AGENCY

[EPA-OW-2011-0466; FRL 9756-2]

2012 Recreational Water Quality Criteria

AGENCY: Environmental Protection Agency (EPA).

ACTION: Notice of availability of the 2012 Recreational Water Quality Criteria.

SUMMARY: Pursuant to section 304(a) of the Clean Water Act (CWA), the Environmental Protection Agency (EPA) is announcing the availability of the 2012 Recreational Water Quality Criteria (RWQC). The document contains the EPA's recreational water quality criteria recommendations for protecting human health in ambient waters that are designated for primary contact recreation. CWA Section 304(a) water quality criteria recommendations are intended as guidance to States and authorized Tribes in developing water quality standards. The 2012 RWQC document describes the relevant scientific findings, explains how these findings were used to derive criteria for two indicators of fecal contamination (enterrococcus and E. coli) as measured by culture based test methods. On December 21, 2011, EPA made available draft national recommended recreational water quality criteria (2011 Draft RWQC) and provided the public an opportunity to provide scientific views.

The 2012 RWQC differs from the current 1986 Ambient Water Quality Criteria in the following ways: the EPA recommends States use one of two sets of criteria values, and no longer recommends multiple “use intensity” values; the RWQC consist of both a geometric mean (GM) and a Statistical Threshold Value (STV); the RWQC are now comprised of a magnitude, a duration, and frequency of excursion for the GM and STV; the EPA introduces a rapid analytical technique for beach monitoring, quantitative polymerase chain reaction (qPCR), for the detection of enterococci in recreational water (EPA Method 1611; the EPA provides information on tools for evaluating and managing recreational waters, such as predictive modeling; the EPA is providing a beach action value for use in beach notification programs; and the EPA is providing tools for developing site-specific criteria.

The CWA, as amended by the Beaches Environmental Assessment and Coastal Health (BEACH) Act of 2000, directed the EPA to conduct studies associated with pathogens and human health under section 104(v), and to publish new or revised criteria for pathogens and pathogen indicators based on those studies under section 304(a)(9). The criteria announced today are the new or revised criteria that EPA is directed to publish under section 304(a)(9) of the CWA, as amended by the BEACH Act.

ADDRESSES: The draft 2011 and final 2012 RWQC documents, as well as the scientific views received from the public on the draft 2011 RWQC, are available from the EPA Docket Center and are identified by Docket ID No. EPA-HQ-OW-2011-0466. They may be accessed online at:

• www.regulations.gov: Follow the on-line instructions.

• Email: OW-Docket@epa.gov.

• Mail: U.S. Environmental Protection Agency; EPA Docket Center (EPA/DC) Water Docket, MC 28221T; 1200 Pennsylvania Avenue NW., Washington, DC 20460.

• On Site: EPA Docket Center, 1301 Constitution Ave. NW., EPA West, Room 3334, Washington, DC. This Docket Facility is open from 8:30 a.m. until 4:30 p.m., Monday through Friday, excluding legal holidays. The telephone number for the Public Reading Room is (202) 566-1744, and the telephone number for the Office of Water is (202) 566-2426.

For additional information about EPA's public docket visit the EPA Docket Center homepage at http://www.epa.gov/epahome/dockets.htm.

FOR FURTHER INFORMATION CONTACT: For questions concerning the science supporting these criteria, contact Sharon Nappier, Health and Ecological Criteria Division (4304T), nappier.sharon@epa.gov, U.S. EPA, 1200 Pennsylvania Ave. NW., Washington, DC 20460; (202) 566-0740. For questions concerning the use of EPA's criteria recommendations, contact Tracy Bone, Standards and Health Protection Division (4305T), bone.tracy@epa.gov, U.S. EPA, 1200 Pennsylvania Ave. NW., Washington, DC 20460; (202) 564-5257.

SUPPLEMENTARY INFORMATION:

I. What are section 304(a) water quality criteria?

Section 304(a) water quality criteria are recommendations developed by EPA under authority of section 304(a) of the Clean Water Act based on the latest scientific information on the relationship that the effect of a constituent concentration has on particular aquatic species and/or human health. Section 304(a)(1) of the Clean Water Act directs the EPA to develop and publish and, from time to time, revise, criteria for water quality accurately reflecting the latest scientific knowledge. Water quality criteria developed under section 304(a) are based solely on data and scientific judgments on the relationship between pollutant concentrations and environmental and human health effects. Section 304(a) criteria do not reflect consideration of economic impacts or the technological feasibility of meeting pollutant concentrations in ambient water.

Section 304(a) criteria provide guidance to States and authorized Tribes in adopting water quality standards that ultimately provide a basis for controlling discharges or releases of pollutants. The criteria also provide guidance to the EPA when promulgating Federal regulations under section 303(c) when such action is necessary. Under the CWA and its implementing regulations, States and authorized Tribes are to adopt water quality criteria to protect designated uses (e.g., aquatic life, recreational use). States and authorized Tribes may adopt other scientifically defensible water quality criteria that differ from these recommendations. When adopting new or revised water quality standards, the States and authorized Tribes must adopt criteria that are scientifically defensible and protective of the designated uses of the bodies of water. In establishing criteria, States may base it on (1) EPA's recommended criteria, (2) EPA's recommended criteria modified to reflect site-specific conditions, or (3) other scientifically defensible methods. The EPA's water quality criteria recommendations are not regulations. Thus, the EPA's recommended criteria do not constitute legally binding requirements.

II. What are the Recreational Water Quality Criteria recommendations?

The EPA is today publishing the Recreational Water Quality Criteria recommendations for protecting human health. The EPA evaluated the available data and provided an opportunity for the public to provide scientific views on the 2011 Draft RWQC. EPA received more than 9,000 comments. EPA reviewed the comments and made some changes in response to those comments. The comments can be found in the docket associated with this action. Based on the available data and input from comments, EPA determined that the designated use of primary contact recreation would be protected if the following criteria were adopted into water quality standards:

Recommended 2012 RWQC
Criteria elements | Estimated illness rate: 36 per 1,000 primary contact recreators |  | Estimated illness rate: 32 per 1,000 primary contact recreators
| Magnitude |  | Magnitude
Indicator | GM (cfu/100 mL) ᵃ | STV (cfu/100 mL) ᵃ | GM (cfu/100 mL) ᵃ | STV (cfu/100 mL) ᵃ
Enterococci—marine and fresh; or | 35 | 130 | 30 | 110
E. coli—fresh | 126 | 410 | 100 | 320
Duration and Frequency: The waterbody GM should not be greater than the selected GM magnitude in any 30-day interval. There should not be greater than a ten percent excursion frequency of the selected STV magnitude in the same 30-day interval.
ᵃ EPA recommends using EPA Method 1600 (U.S. EPA, 2002a) to measure culturable enterococci, or another equivalent method that measures culturable enterococci and using EPA Method 1603 (U.S. EPA, 2002b) to measure culturable E. coli, or any other equivalent method that measures culturable E. coli.

Dated: November 19, 2012.
Nancy K. Stoner,
Acting Assistant Administrator for Water.

[FR Doc. 2012-28909 Filed 11-28-12; 8:45 am]

BILLING CODE 6560-50-P